FEDERAL COMMUNICATIONS COMMISSION

[FR ID 95864]

Open Commission Meeting Thursday, July 14, 2022

July 8, 2022.

The Federal Communications Commission will hold an Open Meeting on the subjects listed below on Thursday, July 14, 2022, which is scheduled to commence at 10:30 a.m. in the Commission Meeting Room of the Federal Communications Commission, 45 L Street NE, Washington, DC.

While attendance at the Open Meeting is available to the public, the FCC headquarters building is not open access, and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireless Tele-Communications | Title: Enhanced Competition Incentive Program for Wireless Radio Services (WT Docket No. 19-38).
|  | Summary: The Commission will consider a Report and Order and Second Further Notice of Proposed Rulemaking that would incentivize beneficial transactions for small carriers, Tribal nations, and rural interests.
2 | Wireline Competition | Title: Updating the Intercarrier Compensation Regime to Eliminate Access Arbitrage (WC Docket No. 18-155).
|  | Summary: The Commission will consider a Further Notice of Proposed Rulemaking to modify its access stimulation rules to address ongoing harmful arbitrage of the Commission's intercarrier compensation regime that imposes costs ultimately borne by interexchange carriers and their customers.
3 | Wireline Competition | Title: Supporting Survivors of Domestic and Sexual Violence (WC Docket No. 22-238); Affordable Connectivity Program (WC Docket No. 21-450); Lifeline and Link Up Reform and Modernization (WC Docket No. 11-42).
|  | Summary: The Commission will consider a Notice of Inquiry seeking comment on ways in which it can assist survivors of domestic violence, sexual violence, dating violence, intimate partner violence, human trafficking, or stalking through the Commission's Lifeline and Affordable Connectivity Programs. The Notice also seeks comment on how the Commission might protect survivors' communications records with support organizations.
4 | Media | Title: Updating Resources Used to Determine Local TV Markets (MB Docket No. 22-239).
|  | Summary: The Commission will consider a Notice of Proposed Rulemaking that would begin the process of updating its rules to use the most up-to-date market information for determining a television station's local market for carriage purposes.
5 | Media | Title: Removing Obsolete Analog-Era Provisions from Part 74 Rules (MB Docket No. 03-185).
|  | Summary: The Commission will consider an Order and Sixth Notice of Proposed Rulemaking that would amend its Part 74 rules for low-power television and television translators to remove obsolete rules for analog TV operations.
6 | Enforcement | Title: Enforcement Bureau Action.
|  | Summary: The Commission will consider an enforcement action.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Marlene Dortch,
Secretary.

[FR Doc. 2022-14980 Filed 7-13-22; 8:45 am]

BILLING CODE 6712-01-P